DEPARTMENT OF HEALTH AND HUMAN SERVICES

National Institutes of Health

National Institute of General Medical Sciences; Amended Notice of Meeting

Notice is hereby given of a change in the meeting of the National Advisory General Medical Sciences Council, September 15, 2022, 09:30 a.m. to September 15, 2022, 04:30 p.m., National Institutes of Health, Natcher Building, 45 Center Drive, Bethesda, MD 20892 which was published in the Federal Register on December 29, 2021, 304881.

The meeting notice is amended to change the end time of the Open Session. The Open Session will be held on September 15, 2022, at 9:30 a.m. until 12:30 p.m. The Closed Session will still be held from 1:30 p.m. to 4:30 p.m. The meeting is partially Closed to the public.

Information is also available on the Institute's/Center's home page: www.nigms.nih.gov/, where an agenda and any additional information for the meeting will be posted when available.

Dated: August 15, 2022.
Miguelina Perez,
Program Analyst, Office of Federal Advisory Committee Policy.

[FR Doc. 2022-17838 Filed 8-18-22; 8:45 am]

BILLING CODE 4140-01-P